DEPARTMENT OF STATE

[Public Notice 7167]

Shipping Coordinating Committee; Notice of Committee Meeting

The Shipping Coordinating Committee (SHC) will conduct an open meeting at 10 a.m. on Monday November 8th, 2010, in Room 1422 of the United States Coast Guard Headquarters Building, 2100 Second Street, SW., Washington, DC 20593-0001. The primary purpose of the meeting is to prepare for the ninety-seventh Session of the International Maritime Organization's (IMO) Legal Committee to be held at the IMO headquarters in London, United Kingdom, from November 15-19th, 2010.

The primary matters to be considered include:

—Report on the 2010 Diplomatic Conference adopting the 2010 Protocol to the International Convention on Liability and Compensation for Damage in Connection with the Carriage of Hazardous and Noxious Substances by Sea, 1996

—Provision of financial security in cases of abandonment, personal injury to, or death of seafarers

—Fair treatment of seafarers in the event of a maritime accident

—Implementation of the International Convention on Civil Liability for Bunker Oil Pollution Damage, 2001

—Consideration of a proposal to amend the limits of liability of the 1996 Protocol to the Convention on Limitation of Liability for Maritime Claims

—Review of national legislation regarding piracy

—Matters arising from the 25th extraordinary and the 104th regular sessions of the IMO Council and the 26th regular session of the IMO Assembly

—Technical cooperation activitites related to maritime legislation

—Review of the status of conventions and other treaty instruments adopted as a result of the work of the Legal Committee

—Review of work programme outputs

—Review of the Guidelines on Work Methods and Organization of Work of the Legal Committee

—Any other business

—Consideration of the report of the Legal Committee on its ninety-seventh session

Members of the public may attend this meeting up to the seating capacity of the room. To facilitate the building security process, and to request reasonable accommodation, those who plan to attend should contact the meeting coordinator, Ms. Bronwyn G. Douglass, by e-mail at bronwyn.douglass@uscg.mil, by phone at (202) 372-3792, by fax at (202) 372-3972, or in writing at Commandant (CG-0941), U.S. Coast Guard, 2100 2nd Street, SW., Stop 7121, Washington, DC 20593-7121. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: October 13, 2010.
Jon Trent Warner,
Executive Secretary, Shipping Coordinating Committee, Department of State.

[FR Doc. 2010-26184 Filed 10-15-10; 8:45 am]

BILLING CODE 4710-09-P